DEPARTMENT OF HOMELAND SECURITY

Federal Emergency Management Agency

[Docket ID FEMA-2018-0002; Internal Agency Docket No. FEMA-B-1846]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Online location of letter of map revision | Date of modification | Community No.
California:
Solano | City of Fairfield (18-09-0734P). | The Honorable Harry T. Price, Mayor, City of Fairfield, City Hall, 1000 Webster Street, Fairfield, CA 94533. | Public Works Department, Engineering Division, 1000 Webster Street, Fairfield, CA 94533. | https://msc.fema.gov/portal/advanceSearch. | Nov. 20, 2018 | 060370
Solano | Unincorporated Areas of Solano County (18-09-0734P). | The Honorable Jim Spering, Chairman, Board of Supervisors, Solano County, 675 Texas Street, Suite 6500, Fairfield, CA 94533. | Solano County, Public Works Department, 675 Texas Street, Suite 5500, Fairfield, CA 94533. | https://msc.fema.gov/portal/advanceSearch. | Nov. 20, 2018 | 060631
Idaho:
Ada | City of Meridian (18-10-0001P). | The Honorable Tammy de Weerd, Mayor, City of Meridian, Meridian City Hall, 33 East Broadway Avenue, Suite 300, Meridian, ID 83642. | Public Works Department, 33 East Broadway Avenue, Suite 200, Meridian, ID 83642. | https://msc.fema.gov/portal/advanceSearch. | Nov. 2, 2018 | 160180
Ada | Unincorporated Areas of Ada County (18-10-0001P). | The Honorable David L. Case, Chairman, Ada County Board of Commissioners, 200 West Front Street, 3rd Floor, Boise, ID 83702. | Ada County Courthouse, 200 West Front Street, Boise, ID 83702. | https://msc.fema.gov/portal/advanceSearch. | Nov. 2, 2018 | 160001
Indiana:
Lake | City of Hammond (18-05-0313P). | The Honorable Thomas M. McDermott, Jr., Mayor, City of Hammond, Hammond City Hall, 2nd Floor, 5925 Calumet Avenue, Hammond, IN 46320. | City Hall, 5925 Calumet Avenue, Hammond, IN 46320. | https://msc.fema.gov/portal/advanceSearch. | Nov. 14, 2018 | 180134
Lake | Town of Munster (18-05-0313P). | President, Lee Ann Mellon, Town of Munster, 1005 Ridge Road, Munster, IN 46321. | Town Hall, 1005 Ridge Road, Munster, IN 46321. | https://msc.fema.gov/portal/advanceSearch. | Nov. 14, 2018 | 180139
Kansas:
Johnson | City of Olathe (18-07-0607P). | The Honorable Michael Copeland, Mayor, City of Olathe, 100 East Santa Fe Street, Olathe, KS 66061. | City Hall, Planning Office, 100 East Santa Fe Street, 3rd Floor, Olathe, KS 66061. | https://msc.fema.gov/portal/advanceSearch. | Oct. 26, 2018 | 200173
Nevada:
Washoe | City of Sparks (18-09-0662P). | The Honorable Geno Martini, Mayor, City of Sparks, P.O. Box 857, Sparks, NV 89432. | City Hall, 431 Prater Way, Sparks, NV 89431. | https://msc.fema.gov/portal/advanceSearch. | Nov. 13, 2018 | 320021

[FR Doc. 2018-18828 Filed 8-29-18; 8:45 am]

BILLING CODE 9110-12-P